DEPARTMENT OF JUSTICE

Antitrust Division

Notice Pursuant to the National Cooperative Research and Production Act of 1993—ODVA, Inc.

Notice is hereby given that, on July 14, 2025, pursuant to section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, GP Systems GmbH, Munchen, FEDERAL REPUBLIC OF GERMANY; Moore Industries-International, Inc., North Hills, CA; Highlight Tech Corp., Tainan City, REPUBLIC OF CHINA (TAIWAN); NDW BV, Waalwijk, KINGDOM OF THE NETHERLANDS; Hollysys Technology Group Co., Ltd., Beijing, PEOPLE'S REPUBLIC OF CHINA; Zhejiang HuaRay Technology Co., Ltd., Hangzhou, PEOPLE'S REPUBLIC OF CHINA; Laumas Elettronica s.r.l., Montechiarugolo, ITALY; and Leonton Technologies Co., Ltd., New Taipei City, REPUBLIC OF CHINA (TAIWAN), have been added as parties to this venture.

Also, Industrial Indexing Systems, Inc., Victor, NY; Herkules-Resotec Elektronik GmbH, Baunatal, FEDERAL REPUBLIC OF GERMANY; Mecco Partners, LLC, Cranberry Township, PA; and Microchip Technology Inc., Chandler, AZ, have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on April 9, 2025. A notice was published in the Federal Register pursuant to section 6(b) of the Act on April 21, 2025 (90 FR 16705).

Suzanne Morris,
Deputy Director Civil Enforcement Operations, Antitrust Division.

[FR Doc. 2025-15498 Filed 8-14-25; 8:45 am]

BILLING CODE P